DEPARTMENT OF COMMERCE

National Oceanic and Atmospheric Administration

50 CFR Part 660

[Docket No.051014263-6028-03; I.D. 041906A]

Fisheries Off West Coast States and in the Western Pacific; Pacific Coast Groundfish Fishery; Specifications and Management Measures; Inseason Adjustments; Pacific Halibut Fisheries

AGENCY: National Marine Fisheries Service (NMFS), National Oceanic and Atmospheric Administration (NOAA), Commerce.

ACTION: Inseason adjustments to groundfish management measures; announcement of incidental halibut retention allowance; request for comments.

SUMMARY: NMFS announces changes to management measures in the commercial Pacific Coast groundfish fisheries. NMFS also announces regulations for the retention of Pacific halibut landed incidentally in the limited entry longline primary sablefish fishery north of Pt. Chehalis, WA (46°53.30′ N. lat.). This document also contains notification of a voluntary closed area off Washington for salmon trollers. These actions, which are authorized by the Pacific Coast Groundfish Fishery Management Plan (FMP) are intended to allow fisheries to access more abundant groundfish stocks while protecting overfished and depleted stocks.

DATES: Effective 0001 hours (local time) May 1, 2006. Comments on this rule will be accepted through May 26, 2006.

ADDRESSES: You may submit comments, identified by I.D. 041906A, by any of the following methods:

• E-mail: GroundfishInseason8.nwr@noaa.gov. Include I.D. number 041906A in the subject line of the message.

• Federal eRulemaking Portal: www.regulations.gov. Follow the instructions for submitting comments.

• Mail: D. Robert Lohn, Administrator, Northwest Region, NMFS, Attn: Jamie Goen, 7600 Sand Point Way NE, Seattle, WA 98115-0070.

• Fax: 206-526-6736, Attn: Jamie Goen.

FOR FURTHER INFORMATION CONTACT: Jamie Goen (Northwest Region, NMFS), phone: 206-526-6150; fax: 206-526-6736; or e-mail: jamie.goen@noaa.gov.

SUPPLEMENTARY INFORMATION:

Electronic Access

This Federal Register document is available on the Government Printing Office's website at: www.gpoaccess.gov/fr/index.html.

Background information and documents are available at the Pacific Fishery Management Council's (Pacific Council's) website at: www.pcouncil.org.

Background

The Pacific Coast Groundfish FMP and its implementing regulations at Title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); and December 5, 2005 (70 FR 723850). Longer-term changes to the 2006 specifications and management measures were published in the Federal Register as a proposed rule on December 19, 2005 (70 FR 75115) and as a final rule on February 17, 2006 (71 FR 8489). The final rule was subsequently amended on March 27, 2006 (71 FR 10545) and April 11, 2006 (71 FR 18227).

The Northern Pacific Halibut Act of 1982 (16 U.S.C. 773-773k) (Halibut Act) and its implementing regulations at 50 CFR part 300, subpart E, regulate fishing for Pacific Halibut in U.S. Convention waters. The Halibut Act also authorizes the Pacific Council to develop regulations governing the Pacific halibut catch in waters off of Washington, Oregon, and California that are in addition to, but not in conflict with, regulations of the International Pacific Halibut Commission (IPHC). Accordingly, the Pacific Council has developed, and NMFS has approved, a catch sharing plan (CSP) to allocate the total allowable catch (TAC) of Pacific halibut between treaty Indian and non-Indian harvesters, and among non-Indian commercial and sport fisheries in IPHC statistical Area 2A (off Washington, Oregon, and California). The CSP, as implemented at 50 CFR part 300, provides for retention of halibut landed incidentally in the limited entry, longline primary sablefish fishery north of Pt. Chehalis, WA (46°53.30′ N. lat.) in years when the Area 2A TAC is above 900,000 lb (408.2 mt). Because the Area 2A TAC is above 900,000 lb (408.2 mt) in 2006, NMFS established an allowance for incidental halibut retention in the primary sablefish fishery in 2006 (71 FR 10850, March 3, 2006).

The changes to current groundfish management measures implemented by this action were recommended by the Pacific Council, in consultation with Pacific Coast Treaty Indian Tribes and the States of Washington, Oregon, and California, at its April 2-7, 2006, meeting in Sacramento, CA. At that meeting, the Pacific Council recommended: (1) implementing a limited entry trawl small footrope trip limit for chilipepper rockfish south of 40°10′ N. lat. separate from the minor shelf rockfish, shortbelly, widow, and yelloweye rockfish small footrope trawl trip limit; (2) implementing the incidental catch allowance for halibut in the limited entry fixed gear primary sablefish fishery north of Pt. Chehalis, WA; (3) establishing a voluntary area closure of the Yelloweye Rockfish Conservation Area (YRCA) off Washington for salmon trollers; (4) increasing the weight allowance on the line for “other flatfish” caught with hook and line gear in the limited entry fixed gear and open access fisheries south of 42° N. lat.; and (5) reducing the two-month cumulative limit in the open access sablefish daily trip limit (DTL) fishery north of 36° N. lat. Pacific Coast groundfish landings will be monitored throughout the year, and further adjustments to trip limits or management measures will be made as necessary to allow achievement of, or to avoid exceeding, optimum yields (OYs).

Limited Entry Trawl Trip Limits for Chilipepper Rockfish South of 40°10′ N. Lat.

Chilipepper rockfish is an abundant species that has been annually under harvested for the past five years in order to protect co-occurring overfished species, primarily bocaccio. The Pacific Council discussed increasing trip limits for chilipepper rockfish both shoreward and seaward of the RCAs south of 40°10′ N. lat. In 2005, the Pacific Council had considered raising the chilipepper rockfish limit for vessels using large footrope or midwater trawl gear in areas seaward of the RCAs to allow for targeted chilipepper rockfish fishing. However, because data were not available to fully analyze the impacts on co-occurring species, particularly bocaccio, a more conservative chilipepper rockfish limit was implemented for 2005-2006 than what was requested by industry members. A large footrope or midwater trawl trip limit of 12,000 lb (5,443 kg) per two months was adopted for May through August 2005, and a limit of 8,000 lb (3,629 kg) per two months was adopted for September to December 2005. These same limits are currently in place for 2006. In 2005, the Pacific Council did not recommend increasing the trip limit above 12,000 lb (5,443 kg) per two months. They decided to wait until West Coast Groundfish Observer Program (WCGOP) data on this southern trawl fishery were available and could be analyzed to better understand the impacts on co-occurring species. Currently, only WCGOP data through April 2005 are available. Because the higher trip limits for chilipepper rockfish did not start until May of 2005, WCGOP data on this fishery is unavailable. In addition, it is unknown at this time if WCGOP data were collected from vessels targeting chilipepper rockfish seaward of the RCAs in 2005. The Pacific Council's Groundfish Advisory Subpanel (GAP), representing industry members and the public, reported that the 12,000 lb (5,443 kg) per two months trip limit has resulted in only a few vessels targeting chilipepper rockfish seaward of the RCAs. Because WCGOP data is unavailable for this fishery at this time, the Pacific Council recommended at its April 2006 meeting that the chilipepper rockfish trip limit for large footrope or midwater trawl gear remain the same as in 2005.

To reduce discards of chilipepper rockfish in the small footrope trawl flatfish fisheries, which occurs primarily shoreward of the RCA, the Pacific Council's Groundfish Management Team (GMT) considered removing chilipepper rockfish from the overall 300 lb (136 kg) per month small footrope trip limit for minor shelf rockfish, chilipepper, shortbelly, widow and yelloweye rockfish both shoreward and seaward of the RCA and establishing a small footrope trip limit just for chilipepper rockfish. The GMT believed that a new chilipepper rockfish small footrope trip limit should be linked to a defined proportion of flatfish on board the vessel and in the landings to accommodate incidental catch occurring in the flatfish fishery. The GMT was concerned that allowing an amount greater than 1,000 lb (454 kg) per two months (or 500 lb (227 kg) per month) that was not linked to the flatfish fishery could result in targeted chilipepper rockfish fishing, with increased catches of overfished species that co-occur with chilipepper rockfish. WCGOP data from January 2004 to April 2005 were examined to identify chilipepper rockfish/flatfish catch ratios and bycatch correlations. After discussion of the WCGOP data and consideration of public comments, the Pacific Council recommended that NMFS adopt a small increase in chilipepper rockfish to accommodate incidental catch in the flatfish fishery while not creating an incentive for targeting of chilipepper rockfish.

Therefore, the Pacific Council recommended and NMFS is implementing a 500 lb (227 kg) per month small footrope trip limit for chilipepper rockfish that is separate from the minor shelf rockfish, shortbelly, widow and yelloweye rockfish limit of 300 lb (136 kg) per month from May through December.

Retention of Incidental Halibut Catch in the Primary Sablefish Fishery North of Pt. Chehalis, WA

The Pacific halibut CSP and implementing regulations at 50 CFR 300.63(b)(3) provide for retention of halibut landed incidentally in the limited entry, longline primary sablefish fishery north of Pt. Chehalis, WA (46°53.30′ N. lat.) in years when the Area 2A TAC is above 900,000 lb (408.2 mt). The 2006 Area 2A TAC is 1,380,000 lb (626 mt).

According to IPHC and Federal regulations, Pacific halibut may not be taken by gear other than hook-and-line gear. Only vessels registered for use with sablefish-endorsed limited entry permits may participate in the primary fixed gear sablefish fishery specified for halibut retention in the CSP. Vessels must also carry IPHC commercial halibut licenses in order to retain and land halibut. Incidental halibut retention in the primary sablefish fishery is only allowed for vessels operating north of Pt. Chehalis, WA (46°53.30′ N. lat.). Under Pacific halibut regulations at 50 CFR 300.63, halibut taken and retained in the primary sablefish fishery may not be possessed or landed south of Pt. Chehalis, WA (46°53.30′ N. lat.).

Similar to 2005, halibut caught incidentally in the primary sablefish fishery may be retained by appropriately licensed longline vessels. The amount of incidental halibut retained in the primary sablefish fishery continues to be capped at 70,000 lb (31,752 kg), to ensure that the fishery is maintained as an incidental and not as a directed fishery. The objective for setting annual landing restrictions is to reach the halibut quota for this fishery at about the same time as the primary sablefish season ends, October 31, and to ensure an equitable sharing of the halibut landings among the fishers. To achieve this objective, incidental halibut retention in the sablefish fishery over the past few years has been structured as a ratio of halibut landings permitted in relation to sablefish landings.

Therefore, the Pacific Council recommended, and NMFS is implementing the following: Beginning May 1, 2006, and continuing until the halibut quota 70,000 lb or (31,752 kg) is taken, longliners eligible to participate in the primary sablefish fishery north of Pt. Chehalis, WA (46°53.30′ N. lat.) (see 50 CFR 660.372(a)) with appropriate IPHC licenses may retain incidental halibut landings up to 100 lb (45 kg) (dressed weight, head-on) of halibut for every 1,000 lb (454 kg) (dressed weight) of sablefish landed and up to two additional halibut in excess of the 100 lb (45 kg) per 1,000 lb (454 kg) ratio per landing. Halibut may not be on board a vessel that has any gear other than longline gear on board (e.g., pot or trawl gear).

Voluntary “C-shaped” Closure off Washington for Salmon Troll Fisheries

Since 2003, NMFS has implemented a “C-shaped” YRCA off the Washington coast to protect yelloweye rockfish, an overfished species (see 50 CFR 660.390(a)). For 2006, the “C-shaped” YRCA is a mandatory closed area for recreational groundfish and recreational Pacific halibut fishing. In addition, the “C-shaped” YRCA has been designated as an area to be avoided (a voluntary closure) by commercial fixed gear groundfish fishermen at §§ 660.382(c)(1) and 660.383(c)(1). Much of the YRCA is already closed to commercial groundfish fixed gear fishermen by the non-trawl RCA, which extends from the Washington shoreline to a line connecting specific latitude and longitude coordinates that approximates the 100-fm (183-m) depth contour.

To further protect yelloweye rockfish, the Pacific Council has recommended that the “C-shaped” YRCA in the North Coast subarea (Washington Marine Area 3) also be designated as an area to be avoided (a voluntary closure) by salmon trollers to protect yelloweye rockfish.

Limited Entry Fixed Gear and Open Access Fisheries for “Other Flatfish” South of 42° N. Lat.

For consistency with recreational regulations and to allow hook-and-line gear to more effectively fish on the bottom of the ocean for abundant flatfish species that do not usually co-occur with overfished groundfish species, the Pacific Council recommended revising the limited entry fixed gear and open access limits south of 42° N. lat. to allow vessels fishing for “other flatfish” with hook-and-line gear, with no more than 12 hooks per line, using hooks no larger than “Number 2” hooks, to use up to two one-pound weights rather than limiting them to one one-pound weight as in the trip limit tables, (Table 4 (South) and Table 5 (South)). In addition, the regulations at §§ 660.382 and 660.383 were inconsistent with the trip limit tables and are revised from reading “up to two lb of weight per line” to “up to two one lb weights per line” in order to be consistent with the inseason action recommended by the Pacific Council.

Therefore, NMFS is implementing gear restrictions for limited entry fixed gear and open access fisheries south of 42° N. lat. as follows: “When fishing for “other flatfish,” vessels using hook-and-line gear with no more than 12 hooks per line, using hooks no larger than “Number 2” hooks, which measure 11 mm (0.44 inches) point to shank, and up to two 1 lb (0.45 kg) weights per line are not subject to the RCAs.”

Open Access Sablefish Daily Trip Limit Fishery North of 36° N. Lat.

The Pacific Council discussed reducing the sablefish daily trip limit (DTL) fishery's cumulative limit north of 36° N. lat. in anticipation of a large influx of fishing effort into the sablefish DTL fishery as a result of salmon fishery closures. The salmon fishery in 2006 is severely constrained off the coasts of Oregon and California. Fishery managers have received a number of inquiries from salmon fishers who are interested in moving into the open access sablefish DTL fishery. Only a minimal amount of hook-and-line or pot fishing gear is needed to participate in the sablefish DTL fishery, increasing the likelihood of fishers moving into this fishery. The amount of effort that may shift into the fishery as a result of lost salmon fishing opportunity, or for other reasons, is unknown and cannot be well estimated at this time. Under the current limits, a large increase in the number of open access sablefish DTL fishery participants could cause an early attainment of the open access sablefish allocation. If the allocation were reached, the fishery would need to be closed, possibly as early as July or August.

Though the open access sablefish DTL fishery could provide fishing opportunity for displaced salmon fishers, it would likely have a large effect on fishers who have historically participated in the sablefish fishery. Reducing the open access cumulative limit for sablefish on May 1, 2006, is predicted to result in a longer season, which would most benefit fishers who have historically participated in the year-round fishery.

The Pacific Council considered various reductions to the current open access sablefish DTL fishery's weekly and 2-month limits ranging from one landing per week of up to 500 lb (227 kg), not to exceed 2,000 lb (907 kg) per two months to status quo (one landing per week of up to 1,000 lb (454 kg), not to exceed 5,000 lb (2,268 kg) per two months). To sustain the open access sablefish DTL fishery until the end of year, the Pacific Council recommended that the daily and weekly trip limits for sablefish remain the same and that the cumulative limits for sablefish be reduced to 3,000 lb (1,361 kg) per two months. The Pacific Council will analyze effort shifts into the open access sablefish DTL fishery at their June 11-16, 2006, meeting when new data from the fishery are available.

Therefore, the Pacific Council recommended and NMFS is implementing a reduction in the open access cumulative trip limits for sablefish north of 36° N. lat. from “300 lb (136 kg) per day, or one landing per week of up to 1,000 lb (454 kg), not to exceed 5,000 lb (2,268 kg) per two months” to “300 lb (136 kg) per day, or one landing per week of up to 1,000 lb (454 kg), not to exceed 3,000 lb (1,361 kg) per two months.”

Classification

These actions are taken under the authority of 50 CFR 300.63(b)(3)and 660.370(c) and are exempt from review under Executive Order 12866.

These actions are authorized by the Pacific Coast groundfish FMP, the Halibut Act, and its implementing regulations, and are based on the most recent data available. The aggregate data upon which these actions are based are available for public inspection at the Office of the Administrator, Northwest Region, NMFS, (see ADDRESSES) during business hours.

Pursuant to 5 U.S.C. 553(b)(B), there is good cause to waive prior notice and an opportunity for public comment on this action, as notice and comment would be impracticable and contrary to the public interest. The data upon which these recommendations were based was provided to the Pacific Council, and the Pacific Council made its recommendations at its April 2-7, 2006, meeting in Sacramento, CA. There was not sufficient time after that meeting to draft this notice and undergo proposed and final rulemaking before these actions need to be in effect at the start of the next cumulative limit period, May 1, 2006, as explained below. For the actions to be implemented in this notice, prior notice and opportunity for comment would be impracticable and contrary to the public interest because affording the time necessary for prior notice and opportunity for public comment would impede the Agency's function of managing fisheries using the best available science to approach without exceeding the OYs for federally managed species. The adjustments to management measures in this document affect commercial groundfish fisheries. Changes to the limited entry trawl trip limits must be implemented in a timely manner by May 1, 2006, to reduce discard. Changes to the open access sablefish DTL fishery must be implemented in a timely manner by May 1, 2006, so that harvest of sablefish stays within the harvest levels projected for 2006 and is extended as long as possible over the year. Changes to the limited entry fixed gear primary sablefish fishery to allow the retention of Pacific halibut must be implemented by May 1, 2006, in order to provide an opportunity for participants in this fishery to catch the available quota projected to be taken based on the ratio of halibut to sablefish landings set. Changes to the limited entry fixed gear and open access gear requirements for “other flatfish” must be implemented as soon as possible and no later than May 1, 2006, in order to make commercial and recreational regulations consistent and to allow fishers better access to harvest of healthy stocks. Delaying any of these changes would keep management measures in place that are not based on the best available data and which could lead to early closures of the fishery if harvest of groundfish exceeds levels projected for 2006 or that deny fishermen access to available harvest. This would be contrary to the public interest because it would impair achievement of one of the Pacific Coast Groundfish FMP objectives of providing for year-round harvest opportunities or extending fishing opportunities as long as practicable during the fishing year.

For these reasons, good cause also exists to waive the 30 day delay in effectiveness requirement under 5 U.S.C. 553 (d)(3).

List of Subjects in 50 CFR Part 660

Administrative practice and procedure, Fisheries, Fishing, Indians.

Dated: April 20, 2006.
James P. Burgess,
Acting Director, Office of Sustainable Fisheries, Natinal Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq., and 16 U.S.C. 773-773k

2. In § 660.372, paragraph (b)(3)(iv) is revised to read as follows:

§ 660.372 Fixed gear sablefish fishery management.

(b) * * *

(3) * * *

(iv) Incidental halibut retention north of Pt. Chehalis, WA (46°53.30′ N. lat.). From May 1 through October 31, vessels authorized to participate in the primary sablefish fishery, licensed by the International Pacific Halibut Commission for commercial fishing in Area 2A (waters off Washington, Oregon, California), and fishing with longline gear north of Pt. Chehalis, WA (46°53.30′ N. lat.) may land up to the following cumulative limits: 100 lb (45 kg) dressed weight, head-on of halibut per 1,000 lb (454 kg) dressed weight of sablefish, plus up to two additional halibut per fishing trip in excess of this ratio. “Dressed” halibut in this area means halibut landed eviscerated with their heads on. Halibut taken and retained in the primary sablefish fishery north of Pt. Chehalis may only be landed north of Pt. Chehalis and may not be possessed or landed south of Pt. Chehalis.

3. In § 660.382, paragraphs (c)(2) through (c)(5) are revised to read as follows:

§ 660.382 Limited entry fixed gear fishery management measures.

(c) * * *

(2) Cowcod Conservation Areas. The latitude and longitude coordinates of the Cowcod Conservation Areas (CCAs) boundaries are specified at § 660.390. Fishing with limited entry fixed gear is prohibited within the CCAs, except that fishing for “other flatfish” is permitted within the CCAs using no more than 12 hooks, “Number 2” or smaller, which measure no more than 11 mm (0.44 inches) point to shank, and up to two one lb (0.45 kg) weights per line. Fishing with limited entry fixed gear for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to two one lb (0.45 kg) weights per line. It is unlawful to take and retain, possess, or land groundfish taken with non-trawl gear within the non-trawl RCA, unless otherwise authorized in this section. Limited entry fixed gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. [For example, if a vessel participates in the salmon troll fishery within the RCA, the vessel cannot on the same trip participate in the sablefish fishery outside of the RCA.] Boundaries for the non-trawl RCA throughout the year are provided in the header to Table 4 (North) and Table 4 (South) of this subpart and may be modified by NMFS inseason pursuant to § 660.370(c). Non-trawl RCA boundaries are defined by specific latitude and longitude coordinates and are provided at § § 660.390 through 660.394.

(4) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to two one lb (0.45 kg) weights per line. (See Table 4 (South) of this subpart.) For a definition of the Farallon Islands, see § 660.390.

(5) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to two one lb (0.45 kg) weights per line. [Note: California state regulations also prohibit fishing for all greenlings of the genus Hexagrammos, California sheephead and ocean whitefish in this area.]

4. In § 660.383, paragraphs (c)(2), (c)(3), (c)(5), and (c)(6) are revised to read as follows:

§ 660.383 Open access fishery management measures.

(c) * * *

(2) Cowcod Conservation Areas. The latitude and longitude coordinates of the Cowcod Conservation Areas (CCAs) boundaries are specified at § 660.390. Fishing with open access gear is prohibited within the CCAs, except that fishing for “other flatfish” is permitted within the CCAs using no more than 12 hooks, “Number 2” or smaller, which measure no more than 11 mm (0.44 inches) point to shank, and up to two 1-lb (0.45-kg) weights per line. Fishing with open access gear, except trawl gear, for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas for the open access fisheries. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to two 1-lb (0.45-kg) weights per line. It is unlawful to take and retain, possess, or land groundfish taken with non-trawl gear within the non-trawl RCA, unless otherwise authorized in this section. Open access non-trawl gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. Retention of groundfish caught by salmon troll gear is prohibited in the designated RCAs, except that salmon trollers may retain yellowtail rockfish caught both inside and outside the non-trawl RCA subject to the limits in Tables 5 (North) and 5 (South) of this subpart. Boundaries for the non-trawl RCA throughout the year are provided in the open access trip limit tables, Table 5 (North) and Table 5(South) of this subpart and may be modified by NMFS inseason pursuant to § 660.370(c). Non-trawl RCA boundaries are defined by specific latitude and longitude coordinates which are specified at §§ 660.390 through 660.394.

(5) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to two 1-lb (0.45-kg) weights per line. (See Table 5 (South) of this subpart.) For a definition of the Farallon Islands, see § 660.390.

(6) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to two 1-lb (0.45-kg) weights per line. [Note: California state regulations also prohibit fishing for all greenlings of the genus Hexagrammos, California sheephead and ocean whitefish in this area.]

5. In part 660, subpart G, Table 3 (South), Table 4 (North and South), and Table 5 (North and South) are revised to read as follows:

BILLING CODE 3510-22-S

[FR Doc. 06-3942 Filed 4-25-06; 8:45 am]

BILLING CODE 3510-22-C